DEPARTMENT OF EDUCATION

Office of Postsecondary Education; Overview Information; Developing Hispanic-Serving Institutions Program; Notice Inviting Applications for New Awards for Fiscal Year (FY) 2005

Catalog of Federal Domestic Assistance (CFDA) Number: 84.031S.

DATES: Applications Available: February 3, 2005.

Deadline for Transmittal of Applications: March 21, 2005.

Deadline for Intergovernmental Review: May 19, 2005.

Eligible Applicants: Except as noted below, institutions of higher education that qualify as eligible Hispanic-Serving Institutions (HSI) are eligible to apply for new Individual Development Grants and Cooperative Arrangement Development Grants under the Developing Hispanic-Serving Institutions Program. The requirements for satisfying the definition of an eligible HSI are in the Notice Inviting Applications for Designation as Eligible Institutions for Fiscal Year 2005 that was published in the Federal Register on November 30, 2004 (69 FR 69589). The complete HSI eligibility requirements are in 34 CFR 606.2 through 606.5 and can be accessed from the following Web site: http://www.ed.gov/news/fedregister.

Relationship Between HSI and Title III, Part A Programs

Note 1: A grantee under the Developing HSI Program, authorized under Title V of the Higher Education Act of 1965, as amended (HEA), may not receive a grant under any HEA, Title III, Part A Program. The Title III, Part A Programs include the Strengthening Institutions, American Indian Tribally Controlled Colleges and Universities, and Alaska Native and Native Hawaiian-Serving Institutions Programs. Further, a current Developing HSI Program grantee may not give up its grant in order to receive a grant under any Title III, Part A Program.

Note 2: An HSI that does not fall within the limitation described in Note 1 may apply for a FY 2005 grant under all Title III, Part A Programs for which it is eligible, as well as under the Developing HSI Program. However, a successful applicant may receive only one grant.

Estimated Available Funds: $26,549,000.

Estimated Range of Awards: $475,000-$700,000.

Estimated Average Size of Awards: Individual Development Grant: $496,000 per year. Cooperative Arrangement Development Grant: $650,000 per year.

Estimated Number of Awards: Individual Development Awards: 43. Cooperative Arrangement Development Awards: 8.

Note: The Department is not bound by any estimates in this notice. Applicants should periodically check the HSI Program Web site for further information. The address is: http://www.ed.gov/programs/idueshsi/index.html.

Project Period: Up to 60 months.

Full Text of Announcement

I. Funding Opportunity Description

Purpose of Program: The Developing HSI Program assists HSIs to expand educational opportunities for, and improve the academic attainment of, Hispanic students. The Developing HSI Program also enables HSIs to expand and enhance their academic offerings, program quality, and institutional stability.

Priorities: This competition includes two competitive preference priorities taken from the statute for this program. These priorities are as follows:

In accordance with 34 CFR 75.105(b)(2)(iv), the following priorities are from sections 511(d) and 514(b) of the HEA.

Competitive Preference Priorities: For FY 2005, these priorities are competitive preference priorities. These priorities are:

Competitive Preference Priority 1: Under 34 CFR 75.105(c)(2)(i) we award up to an additional five (5) points to an application, depending on how well the application meets this priority. Section 511(d) of the HEA provides that we must give priority to applications for development grants that contain satisfactory evidence that the HSI has entered into, or will enter into, a collaborative arrangement with at least one local educational agency or community-based organization to provide that agency or organization with assistance (from funds other than funds provided under Title V of the HEA) in reducing dropout rates for Hispanic students, improving rates of academic achievement for Hispanic students, and increasing the rates at which Hispanic secondary school graduates enroll in higher education.

Competitive Preference Priority 2: Under 34 CFR 75.105(c)(2)(ii) we give preference to an application that meets this priority over an application of comparable merit that does not meet the priority. Section 514(b) of the HEA provides that we must give priority to applications for cooperative arrangement grants that are geographically and economically sound or will benefit the applicant HSI.

Program Authority: 20 U.S.C. 1101-1101d, 1103-1103g.

Applicable Regulations: (a) The Education Department General Administrative Regulations (EDGAR) in 34 CFR parts 74, 75, 77, 79, 81, 82, 84, 85, 86, 97, 98, and 99. (b) The regulations for this program in 34 CFR part 606.

II. Award Information

Type of Award: Discretionary grant. Five-year Individual Development Grants and Cooperative Arrangement Development Grants will be awarded in FY 2005. Planning grants will not be awarded in FY 2005.

Estimated Available Funds: $26,549,000.

Estimated Range of Awards: $475,000-$700,000.

Estimated Average Size of Awards: Individual Development Grant: $496,000 per year. Cooperative Arrangement Development Grant: $650,000 per year.

Estimated Number of Awards: Individual Development Awards: 43. Cooperative Arrangement Development Awards: 8.

Note: The Department is not bound by any estimates in this notice. Applicants should periodically check the HSI Program Web site for further information. The address is: http://www.ed.gov/programs/idueshsi/index.html.

Project Period: Up to 60 months.

III. Eligibility Information

1. Eligible Applicants: Except as noted below, institutions of higher education that qualify as eligible HSIs are eligible to apply for new Individual Development Grants and Cooperative Arrangement Development Grants under the Developing HSI Program. The requirements for satisfying the definition of an eligible HSI are in the Notice Inviting Applications for Designation as Eligible Institutions for Fiscal Year 2005 that was published in the Federal Register on November 30, 2004 (69 FR 69589). The complete HSI eligibility requirements are in 34 CFR 606.2 through 606.5 and can be accessed from the following Web site: http://www.ed.gov/news/fedregister.

Relationship between HSI and Title III, Part A Programs

Note 1: A grantee under the Developing HSI Program, authorized under the HEA, may not receive a grant under any HEA, Title III, Part A Program. The Title III, Part A Programs include the Strengthening Institutions, American Indian Tribally Controlled Colleges and Universities, and Alaska Native and Native Hawaiian-Serving Institutions Programs. Further, a current Developing HSI Program grantee may not give up its grant in order to receive a grant under any Title III, Part A Program.

Note 2: An HSI that does not fall within the limitation described in Note 1 may apply for a FY 2005 grant under all Title III, Part A Programs for which it is eligible, as well as under the Developing HSI Program. However, a successful applicant may receive only one grant.

2. Cost Sharing or Matching: There are no cost sharing or matching requirements unless the grantee uses a portion of its grant for establishing or improving an endowment fund. If it does, it must match with non-Federal funds the amount of grant funds used for this purpose. (20 U.S.C. 1101c).

IV. Application and Submission Information

1. Address to Request Application Package: J. Alexander Hamilton, U.S. Department of Education, 1990 K Street, NW., 6th Floor, Washington, DC 20006-8513. Telephone: (202) 502-7583 or by e-mail: Josephine.Hamilton@ed.gov.

If you use a telecommunications device for the deaf (TDD), you may call the Federal Information Relay Service (FIRS) at 1-800-877-8339.

Individuals with disabilities may obtain a copy of the application package in an alternative format (e.g., Braille, large print, audiotape, or computer diskette) by contacting the program contact person listed in this section.

2. Content and Form of Application Submission: Requirements concerning the content of an application, together with the forms you must submit, are in the application package for this program.

Page Limit: We have established mandatory page limits for both the Individual Development Grant and the Cooperative Arrangement Development Grant applications. You must limit your entire application to the equivalent of no more than 70 pages for the Individual Development Grant application and 100 pages for the Cooperative Arrangement Development Grant application, using the following standards:

• A “page” is 8.5″ × 11″, on one side only, with 1″ margins at the top, bottom, and both sides.

• Double space (no more than three lines per vertical inch) all text in the application narrative, including titles and headings. You may single space the abstract, footnotes, quotations, references, captions, tables, and forms (including the ED Forms), however, you must still use font size 12.

• Use a font that is size 12.

• No appendices or attachments should be included with the application. If you include any attachments or appendices, these items will be counted for purposes of the page limit requirement. We will reject your application if—

• You apply these standards and exceed the page limit; or

• You apply other standards and exceed the equivalent of the page limit.

3. Submission Dates and Times: Applications Available: February 3, 2005.

Deadline for Transmittal of Applications: March 21, 2005.

Applications for grants under this program must be submitted electronically using the Electronic Grant Application System (e-Application) available through the Department's e-Grants system. For information (including dates and times) about how to submit your application electronically or by mail or hand delivery if you qualify for an exception to the electronic submission requirement, please refer to section IV. 6. Other Submission Requirements in this notice.

We do not consider an application that does not comply with the deadline requirements.

Deadline for Intergovernmental Review: May 19, 2005.

4. Intergovernmental Review: This program is subject to Executive Order 12372 and the regulations in 34 CFR part 79. Information about Intergovernmental Review of Federal Programs under Executive Order 12372 is in the application package for this program.

5. Funding Restrictions: a. Applicability of Executive Order 13202. Applicants that apply for construction funds under the Developing HSI Program must comply with the Executive Order 13202 signed by President Bush on February 17, 2001 and amended on April 6, 2001. This Executive order provides that recipients of Federal construction funds may not “require or prohibit bidders, offerors, contractors, or subcontractors to enter into or adhere to agreements with one or more labor organizations, on the same or other construction project(s)” or “otherwise discriminate against bidders, offerors, contractors, or subcontractors for becoming or refusing to become or remain signatories or otherwise adhere to agreements with one or more labor organizations, on the same or other construction project(s).” However, the Executive order does not prohibit contractors or subcontractors from voluntarily entering into these agreements. Projects funded under this program that include construction activity will be provided a copy of this Executive Order and will be asked to certify that they will adhere to it.

b. Other Restrictions. We specify unallowable activities in 34 CFR 606.10. We reference additional regulations outlining funding restrictions in the Applicable Regulations section of this notice.

6. Other Submission Requirements: Applications for grants under this program must be submitted electronically, unless you qualify for an exception to this requirement in accordance with the instructions in this section.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

a. Electronic Submission of Applications

Applications for grants under the Developing HSI Program—CFDA Number 84.031S must be submitted electronically using e-Application available through the Department's e-Grants system, accessible through the e-Grants portal page at: http://e-grants.ed.gov.

While completing your electronic application, you will be entering data online that will be saved into a database. You may not e-mail an electronic copy of a grant application to us.

Please note the following:

• You must complete the electronic submission of your grant application by 4:30 p.m., Washington, DC time, on the application deadline date. The e-Application system will not accept an application for this program after 4:30 p.m., Washington, DC time, on the application deadline date. Therefore, we strongly recommend that you do not wait until the application deadline date to begin the application process.

• The regular hours of operation of the e-Grants Web site are 6 a.m. Monday until 7 p.m. Wednesday; and 6 a.m. Thursday until midnight Saturday, Washington, DC time. Please note that the system is unavailable on Sundays, and between 7 p.m. on Wednesdays and 6 a.m. on Thursdays, Washington, DC time, for maintenance. Any modifications to these hours are posted on the e-Grants Web site.

• You will not receive additional point value because you submit your application in electronic format, nor will we penalize you if you qualify for an exception to the electronic submission requirement, as described elsewhere in this section, and submit your application in paper format.

• You must submit all documents electronically, including the Application for Federal Education Assistance (ED 424), Budget Information—Non-Construction Programs (ED 524), and all necessary assurances and certifications.

• Any narrative sections of your application should be attached as files in a .DOC (document), .RTF (rich text), or .PDF (Portable Document) format.

• Your electronic application must comply with any page limit requirements described in this notice.

• Prior to submitting your electronic application, you may wish to print a copy of it for your records.

• After you electronically submit your application, you will receive an automatic acknowledgement that will include a PR/Award number (an identifying number unique to your application).

• Within three working days after submitting your electronic application, fax a signed copy of the ED 424 to the Application Control Center after following these steps:

(1) Print ED 424 from e-Application.

(2) The applicant's Authorizing Representative must sign this form.

(3) Place the PR/Award number in the upper right hand corner of the hard-copy signature page of the ED 424.

(4) Fax the signed ED 424 to the Application Control Center at (202) 245-6272.

• We may request that you provide us original signatures on other forms at a later date.

Application Deadline Date Extension in Case of e-Application System Unavailability: If you are prevented from electronically submitting your application on the application deadline date because the e-Application system is unavailable, we will grant you an extension of one business day in order to transmit your application electronically, by mail, or by hand delivery. We will grant this extension if—

(1) You are a registered user of e-Application and you have initiated an electronic application for this competition; and

(2)(a) The e-Application system is unavailable for 60 minutes or more between the hours of 8:30 a.m. and 3:30 p.m., Washington, DC time, on the application deadline date; or

(b) The e-Application system is unavailable for any period of time between 3:30 p.m. and 4:30 p.m., Washington, DC time, on the application deadline date.

We must acknowledge and confirm these periods of unavailability before granting you an extension. To request this extension or to confirm our acknowledgement of any system unavailability, you may contact either (1) the person listed elsewhere in this notice under FOR FURTHER INFORMATION CONTACT (see VII. Agency Contact) or (2) the e-Grants help desk at 1-888-336-8930. If the system is down and therefore the application deadline is extended, an e-mail will be sent to all registered users who have initiated an e-Application. Extensions referred to in this section apply only to the unavailability of the Department's e-Application system.

Exception to Electronic Submission Requirement: You qualify for an exception to the electronic submission requirement, and may submit your application in paper format, if you are unable to submit an application through the e-Application system because—

• You do not have access to the Internet; or

• You do not have the capacity to upload large documents to the Department's e-Application system; and

• No later than two weeks before the application deadline date (14 calendar days or, if the fourteenth calendar day before the application deadline date falls on a Federal holiday, the next business day following the Federal holiday), you mail or fax a written statement to the Department, explaining which of the two grounds for an exception prevent you from using the Internet to submit your application. If you mail your written statement to the Department, it must be postmarked no later than two weeks before the application deadline date. If you fax your written statement to the Department, we must receive the faxed statement no later than two weeks before the application deadline date.

Address and mail or fax your statement to: J. Alexander Hamilton, U.S. Department of Education, 1990 K Street, NW., room 6052, Washington, DC 20006-8513. FAX: (202) 502-7861.

Your paper application must be submitted in accordance with the mail or hand delivery instructions described in this notice.

b. Submission of Paper Applications by Mail. If you qualify for any exception to the electronic submission requirement, you may mail (through the U.S. Postal Service or a commercial carrier) your application to the Department. You must mail the original and two copies of your application, on or before the application deadline date, to the Department at the applicable following address:

By mail through the U.S. Postal Service: U.S. Department of Education, Application Control Center, Attention: (CFDA Number 84.031S), 400 Maryland Avenue, SW., Washington, DC 20202-4260; or

By mail through a commercial carrier: U.S. Department of Education, Application Control Center—Stop 4260, Attention: (CFDA Number 84.031S), 7100 Old Landover Road, Landover, MD 20785-1506.

Regardless of which address you use, you must show proof of mailing consisting of one of the following:

(1) A legibly dated U.S. Postal Service postmark,

(2) A legible mail receipt with the date of mailing stamped by the U.S. Postal Service,

(3) A dated shipping label, invoice, or receipt from a commercial carrier, or

(4) Any other proof of mailing acceptable to the Secretary of the U.S. Department of Education.

If you mail your application through the U.S. Postal Service, we do not accept either of the following as proof of mailing:

(1) A private metered postmark, or

(2) A mail receipt that is not dated by the U.S. Postal Service.

If your application is postmarked after the application deadline date, we will not consider your application.

Note: The U.S. Postal Service does not uniformly provide a dated postmark. Before relying on this method, you should check with your local post office.

c. Submission of Paper Applications by Hand Delivery

If you qualify for an exception to electronic submission requirement, you (or a courier service) may deliver your paper application to the Department by hand. You must deliver the original and two copies of your application, by hand, on or before the application deadline date, to the Department at the following address: U.S. Department of Education, Application Control Center, Attention: (CFDA Number 84.031S), 550 12th Street, SW., Room 7041, Potomac Center Plaza, Washington, DC 20202-4260.

The Application Control Center accepts hand deliveries daily between 8 a.m. and 4:30 p.m., Washington, DC time, except Saturdays, Sundays, and Federal holidays.

Note for Mail or Hand Delivery of Paper Applications: If you mail or hand deliver your application to the Department:

(1) You must indicate on the envelope and—if not provided by the Department—in Item 4 of the ED 424 the CFDA number—and suffix letter, if any—of the competition under which you are submitting your application.

(2) The Application Control Center will mail a grant application receipt acknowledgment to you. If you do not receive the grant application receipt acknowledgment within 15 business days from the application deadline date, you should call the U.S. Department of Education Application Control Center at (202) 245-6288.

V. Application Review Information

1. Selection Criteria: The selection criteria for this program are in 34 CFR 606.21 and 606.22.

2. Review and Selection Process: Additional factors we consider in selecting an application for an award are as follows: In tie-breaking situations described in 34 CFR 606.23, the HSI Program regulations require that we award one additional point to an application from an institution of higher education (IHE) that has an endowment fund for which the 2002-2003 market value per full-time equivalent (FTE) student was less than the comparable average per FTE student at a similar type IHE. We also award one additional point to an application from an IHE that had expenditures for library materials in 2002-2003 per FTE student that were less than the comparable average per FTE student at a similar type IHE.

For the purpose of these funding considerations, an applicant must be able to demonstrate that the market value of its endowment fund per FTE student and library expenditures per FTE student were less than the average expenditure per FTE student when calculated using the data submitted by applicants for the year 2002-2003.

If a tie still remains after applying the additional point(s), we will determine the ranking of applicants based on the lowest combined library expenditures per FTE student and endowment values per FTE student.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118, 34 CFR 75.720 and in 34 CFR 606.31.

4. Performance Measures: The Secretary has established the following key performance measures for assessing the effectiveness of the Developing HSI Program:

(1) The percentage of Title V project goals relating to the improvement of academic quality that are met or exceeded will increase or be maintained over time.

(2) The percentage of Title V project goals relating to the improvement of student services and student outcomes that are met or exceeded will increase or be maintained over time.

(3) The percentage of Title V project goals relating to the improvement of institutional management and fiscal stability that are met or exceeded will increase or be maintained over time.

VII. Agency Contact

FOR FURTHER INFORMATION CONTACT: J. Alexander Hamilton, U.S. Department of Education, 1990 K Street, NW., 6th Floor, Washington, DC 20006-8513. Telephone: (202) 502-7583 or by e-mail: Josephine.Hamilton@ed.gov; or Sophia McArdle: Telephone: (202) 219-7078 or by e-mail: Sophia.McArdle@ed.gov.

If you use a telecommunications device for the deaf (TDD), you may call the Federal Information Relay Service (FIRS) at 1-800-877-8339.

Individuals with disabilities may obtain this document in an alternative format (e.g., Braille, large print, audiotape, or computer diskette) on request to the program contact person listed in this section.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: January 31, 2005.
Sally L. Stroup,
Assistant Secretary for Postsecondary Education.

[FR Doc. E5-412 Filed 2-2-05; 8:45 am]

BILLING CODE 4000-01-P